FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 16, 2012.

A. Federal Reserve Bank of Dallas (E. Ann Worthy, Vice President) 2200 North Pearl Street, Dallas, Texas 75201-2272:

1. Jimmy Enriquez, The Woodlands, Texas, individually and as trustee for JE Trust No. 2, The Woodlands, Texas; to acquire voting shares of Uvalde Bancshares, Inc., Dover, Delaware, and thereby indirectly acquire voting shares of Uvalde National Bank, Uvalde, Texas.

Board of Governors of the Federal Reserve System,
February 27, 2012.
Robert deV. Frierson,
Deputy Secretary of the Board.

[FR Doc. 2012-4956 Filed 2-29-12; 8:45 am]

BILLING CODE 6210-01-P